DEPARTMENT OF THE INTERIOR

Bureau of Land Management

[MT039-1020-05-AL]

North Dakota: Dakotas Resource Advisory Council Meeting

AGENCY: Bureau of Land Management, North Dakota Field Office, Interior.

ACTION: Notice of meeting.

SUMMARY: A meeting of the Dakotas Resource Advisory Council will be held May 3-4, 2005, in Fort Meade, SD. At 3 p.m. on May 3 we will meet at 54 Sheridan Street in Fort Meade, SD. The meeting will reconvene on Wednesday at 8 a.m. Agenda items include: National Cemetery, Prairie Dogs, Sage Grouse Conservation Plan review, Coteau Coal Mine, ND Grasslands fire damage and rehabilitation.

The meeting is open to the public and a public comment period is set for 1 p.m. on May 4, 2005. The public may make oral statements before the Council or file written statements for the Council to consider. Depending on the number of persons wishing to make an oral statement, a per-person time limit may be established. Summary minutes of the meeting will be available for public inspection and copying.

The 15-member Council advises the Secretary of the Interior, through the Bureau of Land Management, on a variety of planning and management issues associated with public land management in the Dakotas.

FOR FURTHER INFORMATION CONTACT: Marian Atkins, Field Office Manager, South Dakota Field Office, 310 Roundup St., Belle Fourche, South Dakota. Telephone 605-892-7000. Lonny Bagley, Field Office Manager, North Dakota Field Office, 2933 3rd Ave. W. Dickinson, North Dakota. Telephone 701-227-7700.

Dated: March 15, 2005.
Lonny R. Bagley,
Field Manager.

[FR Doc. 05-5498 Filed 3-18-05; 8:45 am]

BILLING CODE 4310-$$-P